DEPARTMENT OF ENERGY

Federal Energy Regulatory Commission

[Project No. 3021-091]

Allegheny Hydro LLC, Allegheny Hydro LP, H2O All Dam LLC; Notice of Application for Transfer of License and Soliciting Comments, Motions To Intervene, and Protests

On June 29, 2022, Allegheny Hydro LLC (transferor) and H2O All Dam LLC (transferee) filed jointly an application for the transfer of license of the 30.4-Megawatts Allegheny River Lock and Dam Nos. 8 & 9 Hydroelectric Project No. 3021. The project is located on Allegheny River, Armstrong County, Pennsylvania.

The applicants seek Commission approval to transfer the license for the Allegheny River Lock and Dam Nos. 8 & 9 Hydroelectric Project from the transferor to the transferee. The applicants are also requesting approval for the transfer of the license from Allegheny Hydro LLC to Allegheny Hydro LP that occurred when the transferor converted from limited liability company to a limited partnership. The transferee will be required by the Commission to comply with all the requirements of the license as though it were the original licensee.

Applicants Contact: For transferor and transferee: Mr. Stephen L. Pike, FirstLight Power Services LLC, 111 South Bedford Street, Suite 103, Burlington, MA 01803, Phone: (781) 653-4244, Email: steve.pike@firstlightpower.com and Ms. Julia S. Wood, Rock Creek Energy Group, LLP, 1 Thomas Circle NW, Suite 700, Washington, DC 20005, Phone: (202) 998-2770, Email: jwood@rockcreekenergygroup.com.

FERC Contact: Anumzziatta Purchiaroni, (202) 502-6191, anumzziatta.purchiaroni@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

In lieu of electronic filing, you may submit a paper copy. Submissions sent via U.S. Postal Service must be addressed to, Kimberly D. Bose, Secretary, Federal Energy Regulatory Commission, 888 First Street NE, Room 1A, Washington, DC 20426. Submissions sent via any other carrier must be addressed to, Kimberly D. Bose, Secretary, Federal Energy Regulatory Commission, 12225 Wilkins Avenue, Rockville, Maryland 20852. The first page of any filing should include docket number P-3021-091. Comments emailed to Commission staff are not considered part of the Commission record.

Dated: September 6, 2022.
Kimberly D. Bose,
Secretary.

[FR Doc. 2022-19632 Filed 9-9-22; 8:45 am]

BILLING CODE 6717-01-P